DEPARTMENT OF DEFENSE

Department of the Air Force

Notice of Intent To Grant a Partially Exclusive Patent License

AGENCY: Department of the Air Force, Department of Defense.

ACTION: Notice of intent.

SUMMARY: Pursuant to the Bayh-Dole Act and implementing regulations, the United States Air Force (Air Force) is issuing this notice of intent to grant a partially exclusive patent license agreement with respect to the field of remote care management of patients with autoimmune disease (which are conditions caused by increased reactivity of the immune system causing tissue damage) to Adyptation Inc., a C-Corporation duly organized, validly existing, and in good standing in the State of Delaware, having a place of business at 3040 South Tech Blvd., Miamisburg, OHIO.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. ARH-200504A-PL in the subject line of the message.

FOR FURTHER INFORMATION CONTACT: Air Force Materiel Command Law Office, AFMCLO/JAZ, 2240 B Street, Rm 260, Wright-Patterson AFB, OH 45433-7109; Facsimile: (937) 255-3733; Email: afmclo.jaz.tech@us.af.mil.

SUPPLEMENTARY INFORMATION: The Department of the Air Force intends to grant the partially exclusive patent license agreement for the invention described in: U.S. Patent No. 8,568,145, entitled, “Predictive Performance Optimizer,” filed August 19, 2011, and issued October 29, 2013; and U.S. Patent No. 8,777,628, entitled, “Predictive Performance Optimizer,” filed April 1, 2013, and issued July 15, 2014.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Adriane Paris,
Acting Air Force Federal Register Liaison Officer.

[FR Doc. 2020-12387 Filed 6-8-20; 8:45 am]

BILLING CODE 5001-10-P